DEPARTMENT OF TRANSPORTATION

Federal Aviation Administration

14 CFR Part 39

[Docket No. FAA-2017-1020; Product Identifier 2017-NM-114-AD; Amendment 39-19306; AD 2018-12-02]

RIN 2120-AA64

Airworthiness Directives; Airbus Airplanes

AGENCY: Federal Aviation Administration (FAA), Department of Transportation (DOT).

ACTION: Final rule.

SUMMARY: We are adopting a new airworthiness directive (AD) for all Airbus Model A318-111 and -112 airplanes; Model A319-111, -112, -113, -114, and -115 airplanes; Model A320-211, -212, -214, and -216 airplanes; and Model A321-111, -112, -211, -212, and -213 airplanes. This AD was prompted by a review of maintenance instructions for a blend repair of the snout diameter of the main beam assembly of the forward engine mount that would create an excessive gap between the bearing mono-ball and the snout. This AD requires modifying the main beam assembly of the forward engine mount. We are issuing this AD to address the unsafe condition on these products.

DATES: This AD is effective July 13, 2018.

The Director of the Federal Register approved the incorporation by reference of certain publications listed in this AD as of July 13, 2018.

ADDRESSES: For Airbus service information identified in this final rule, contact Airbus, Airworthiness Office-EIAS, 1 Rond Point Maurice Bellonte, 31707 Blagnac Cedex, France; telephone: +33 5 61 93 36 96; fax: +33 5 61 93 44 51; email: account.airworth-eas@airbus.com; internet: http://www.airbus.com. For Goodrich service information identified in this final rule, contact Goodrich Corporation, Aerostructures, 850 Lagoon Drive, Chula Vista, CA 91910-2098; phone: 619-691-2719; email: jan.lewis@goodrich.com; internet: http://www.goodrich.com/TechPubs. You may view this referenced service information at the FAA, Transport Standards Branch, 2200 South 216th St., Des Moines, WA. For information on the availability of this material at the FAA, call 206-231-3195. It is also available on the internet at http://www.regulations.gov by searching for and locating Docket No. FAA-2017-1020.

Examining the AD Docket

You may examine the AD docket on the internet at http://www.regulations.gov by searching for and locating Docket No. FAA-2017-1020; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE, Washington, DC 20590.

FOR FURTHER INFORMATION CONTACT: Sanjay Ralhan, Aerospace Engineer, International Section, Transport Standards Branch, FAA, 2200 South 216th St., Des Moines, WA 98198-6547; telephone 425-227-1405; fax 425-227-1149.

SUPPLEMENTARY INFORMATION:

Discussion

We issued a notice of proposed rulemaking (NPRM) to amend 14 CFR part 39 by adding an AD that would apply to all Airbus Model A318-111 and -112 airplanes; Model A319-111, -112, -113, -114, and -115 airplanes; Model A320-211, -212, -214, and -216 airplanes; and Model A321-111, -112, -211, -212, and -213 airplanes. The NPRM published in the Federal Register on October 24, 2017 (82 FR 49146) (“the NPRM”). The NPRM was prompted by a review of maintenance instructions for a blend repair of the snout diameter of the main beam assembly of the forward engine mount that would create an excessive gap between the bearing mono-ball and the snout. The NPRM proposed to require modifying the main beam assembly of the forward engine mount. We are issuing this AD to prevent in-flight failure of a forward engine mount, and consequent detachment of an engine, which could result in reduced controllability of the airplane.

The European Aviation Safety Agency (EASA), which is the Technical Agent for the Member States of the European Union, has issued EASA AD 2017-0132R1, dated November 22, 2017 (referred to after this as the Mandatory Continuing Airworthiness Information, or “the MCAI”), to correct an unsafe condition for all Airbus Model A318-111 and -112 airplanes; Model A319-111, -112, -113, -114, and -115 airplanes; Model A320-211, -212, -214, and -216 airplanes; and Model A321-111, -112, -211, -212, and -213 airplanes. The MCAI states:

A review of maintenance instructions revealed that the Goodrich Aerospace CFM56-5B, Forward Engine Mount Component Maintenance Manual (CMM) 71-21-08, revision (rev.) 1 up to 46 (inclusive), repair 10 (Blend Repair-Beam Assembly Snout Diameter), provides instructions to blend the wear on the forward engine mount assembly, Part Number (P/N) 642-2000-9, 642-2000-13, or 642-2000-25, creating an excessive gap between the bearing mono-ball and the snout of the forward engine mount main beam assembly, P/N 642-2006-501, or P/N 642-2006-503.

This condition, if not detected and corrected, could lead to in-flight failure of a forward engine mount and consequent detachment of an engine, possibly resulting in reduced control of the aeroplane and injury to persons on the ground.

To address this potential unsafe condition, Airbus issued Service Bulletin (SB) A320-71-1065 and SB A320-71-1066, and Goodrich Aerospace issued SB RA32071-159, providing instructions for an in-shop inspection(s) for the main beam snout and, depending on findings, applicable corrective action(s) and re-identification.

Consequently, EASA issued AD 2017-0132, requiring replacement of the affected forward engine mount main beam assemblies. As the same main beam assemblies are certified for CFM56-5A engine installation, that [EASA] AD also applied to aeroplanes with that engine.

Since that [EASA] AD was issued, it was determined that, for aeroplanes equipped with an affected forward engine mount main beam assembly, installation of an affected assembly can still be allowed until replacement, as required by this [EASA] AD.

For the reason described above, this [EASA] AD is revised accordingly.

Required actions include modifying the main beam assembly of the forward engine mount. The modification includes repairing, replacing, or reworking the main beam assembly. You may examine the MCAI in the AD docket on the internet at http://www.regulations.gov by searching for and locating Docket No. FAA-2017-1020.

Comments

We gave the public the opportunity to participate in developing this AD. The following presents the comments received on the NPRM and the FAA's response to each comment.

Support for the NPRM

The Air Line Pilots Association, International (ALPA) and Jake Watson stated their support for the proposed AD. American Airlines (AAL) stated that it has no objection to the intent of the NPRM.

Request To Use Revised Vendor Service Information

AAL stated that the proposed AD should require Goodrich Aerospace Service Bulletin RA32071-159, Rev 1, dated July 25, 2017 (“SB RA32071-159 Rev 1”), which corrects part number references, revises illustrations, and clarifies the procedure. Alternatively, AAL asserted that the proposed AD should allow the use of RA32071-159 Rev 1, or later revisions. AAL stated that Goodrich Aerospace Service Bulletin RA32071-159, dated November 20, 2016, is not useable due to multiple issues.

We do not agree to require RA32071-159 Rev 1. Goodrich Aerospace Service Bulletin RA32071-159 is referenced as an additional source of guidance in Airbus Service Bulletin A320-71-1065, Revision 01, dated July 28, 2017; and Airbus Service Bulletin A320-71-1066, dated December 1, 2016; for inspecting and corrective actions. We acknowledge that RA32071-159 Rev 1 contains several improvements. Therefore, we recommend operators incorporate the latest approved service information. However, in paragraphs (g)(2)(ii) and (h) of this AD, we refer to “Goodrich Aerospace Service Bulletin RA32071-159” and not to any specific revision. Therefore, we have not changed this AD in this regard.

Request To Exclude Certain Actions

AAL stated that Goodrich Aerospace Service Bulletin RA32071-159 requires operators to “fully disassemble the engine mount assembly”, which is not necessary for the dimensional inspection of the snout. AAL noted that, as long as the mount is not installed on the engine, the bearing assembly can be removed to expose the snout, clean, and measure the snout. AAL added that if an operator is forced to fully disassemble the mount, it will drive the mount to an overhaul, which is time consuming and costly.

We infer that the commenter is asking that we exclude full disassembly of the engine mount assembly from the inspection specified in paragraph (h) of the proposed AD. We do not agree. Neither Airbus nor the state of design authority, EASA, has informed the FAA that the snout diameter can be conclusively measured without full disassembly of the engine mount assembly. AAL did not provide any justification supported by approval from EASA; or Airbus's EASA Design Organization Approval (DOA) to allow deviation from the required for compliance section of the service information. However, under the provisions of paragraph (n) of this AD, we will consider requests for approval of an alternative method of compliance if sufficient data are submitted to substantiate that a deviation would provide an acceptable level of safety. We have made no change to this AD in this regard.

Request To Compel Goodrich Aerospace To Use “Required for Compliance (RC)” Language in Goodrich Aerospace Service Bulletin RA32071-159

AAL also asked that the FAA compel Goodrich Aerospace to incorporate FAA Advisory Circular 20-176A, dated June 16, 2014, into Goodrich Aerospace Service Bulletin RA32071-159 for the purpose of “. . . distinguishing which steps in an SB will have a direct effect on detecting, preventing, resolving, or eliminating the unsafe condition identified in an AD.” AAL asserted that Goodrich Aerospace has had 7 years to evaluate and incorporate the best practices for drafting service bulletins related to ADs.

We disagree with the commenter's request. FAA Advisory Circular 20-176A, dated June 16, 2014, provides best practices for drafting service bulletins related to ADs. Although we recommend that the original equipment manufacturer (OEM) specify “RC” steps in service information, the FAA advisory circular is not mandatory, only a recommendation as best practices. We have not changed this AD in this regard.

Request To Remove Revision Level for Vendor Service Information

Delta Airlines (Delta) asked that the proposed AD not specify a revision level for Goodrich Aerospace Service Bulletin RA32071-159. Delta added that, if one must be specified, all revisions published prior to the effective date of the AD should be acceptable methods of compliance.

We agree with the commenter's request that the revision level of Goodrich Aerospace Service Bulletin RA32071-159 not be specified. As previously explained, this AD does not specify a revision level for Goodrich Aerospace Service Bulletin RA32071-159. Therefore, no change to this AD is necessary in this regard.

Request To Specify Confirmation That a Certain Discrepant Repair Has Never Been Installed

Delta requested that paragraph (g)(1) of the proposed AD be revised to specify that maintenance records must confirm that Repair 10 of Component Maintenance Manual (CMM) 71-21-08, Revisions 1 through 46, has never been performed. Delta stated that, based on the NPRM and service information, it is clear that the discrepant repair is Repair 10 of CMM 71-21-08, Revisions 1 through 46. Delta added that paragraph (g)(1) of the proposed AD does not specify that maintenance records must show only that forward mount main beams have not been repaired per the discrepant Repair 10 of CMM 71-21-08, Revisions 1 through 46, which would classify them as affected main beams.

We disagree with the commenter's request; however, we provide the following clarification. The intent of paragraph (g)(1) of this AD is that if no maintenance record exists then there is a possibility that the main beam has been repaired using Repair 10 of CMM 71-21-08 Revisions 1 through 46, and, therefore, qualifies as an “affected main beam.” We have not changed this AD in this regard.

Request To Apply Exceptions to Parts Without Maintenance Records of Repair History

Delta asked that the exceptions in paragraphs (g)(2)(i) through (g)(2)(iii) of the proposed AD also apply to parts for which maintenance records are not available to confirm repair history. Delta stated that this will account for mounts that are not installed on-wing and future spare purchases. Delta added that paragraph (g)(2) of the proposed AD does not permit parts with unknown repair history to be excluded if the criteria in paragraphs (g)(2)(i) through (g)(2)(iii) of the proposed AD are met. Delta noted that paragraph (g)(1) of the proposed AD, parts with unknown repair history, are considered “affected main beams” and have the same compliance requirements as parts that have been repaired per discrepant Repair 10 of CMM 71-21-08, Revisions 1 through 46.

We do not agree with the commenter's request. Exceptions in paragraphs (g)(2)(i) through (g)(2)(iii) of this AD are based on the fact that maintenance records exist. Therefore, these exceptions do not apply to parts with unknown repair history in paragraph (g)(1) of this AD. We have not changed this AD in this regard.

Requests To Use Later Revisions of CMM Repairs

Delta and Lufthansa Technik (Lufthansa) asked that we allow use of later revisions of the CMM repairs in paragraphs (g)(2)(ii) and (h) of the proposed AD. Delta noted that paragraph (g)(2)(ii) doesn't specify that a repair per the corrected Repair 10 of CMM 71-21-08, Revision 47 (and later), or Repair 21 of CMM 71-21-06, Revision 59 (and later), excludes forward mount main beams from the effectivity. Delta added that the dimensional requirements of corrected Repair 10 and Repair 21 are equivalent to the requirements of Goodrich Aerospace Service Bulletin RA32071-159, and ensure that any main beams repaired will meet the intent of the proposed AD.

Delta stated that paragraph (h) of the proposed AD doesn't specify that a qualifying inspection can be done as specified in the instructions of the later revisions of CMMs 71-21-08 and 71-21-06 that introduced the corrected Repair 10 and Repair 21. Delta explained that CMM 71-21-08, Revision 48 (and later), and CMM 71-21-06, Revision 60 (and later), contain the correct snout diameters as specified in Repair 10 of CMM 71-21-08, Revision 47, and Repair 21 of CMM 71-21-06, Revision 59. Delta further noted that EASA AD 2017-0132R1, dated November 22, 2017, permits the use of later revisions of the CMMs with corrected Repairs 10 and 21.

We disagree with the commenters' requests. We cannot use the phrase, “or later approved revisions,” in an AD when referring to the service document because doing so violates Office of the Federal Register (OFR) regulations for approval of materials “incorporated by reference” in rules. In general terms, we are required by these OFR regulations to either publish the service document contents as part of the actual AD language; or submit the service document to the OFR for approval as “referenced” material, in which case we may only refer to such material in the text of an AD. The AD may refer to the service document only if the OFR approved it for “incorporation by reference.” To allow operators to use later revisions of the referenced document (issued after publication of the AD), either we must revise the AD to reference specific later revisions, or operators must request approval to use later revisions as an alternative method of compliance (AMOC) with this AD under the provisions of paragraph (n) of this AD. We have not changed this AD in this regard.

Request To Define Airplane Group

Delta asked that paragraph (i) of the proposed AD clarify that airplanes on which the main beams have never been replaced are considered Group 2 airplanes. Delta stated that paragraph (i) of the proposed AD doesn't specify that airplanes on which the main beams have never been replaced (and thus never repaired) since aircraft delivery should be considered Group 2 airplanes. Delta added that an airplane on which the forward mounts have never been replaced since aircraft delivery will not have the discrepant Repair 10 of CMM 71-21-08, Revisions 1 through 46.

We do not agree to revise paragraph (i) of this AD; however, we have clarified the airplane group as follows. Paragraph (i) of this AD specifies Group 2 airplanes are airplanes on which an affected main beam has not been installed as of the effective date of this AD. Therefore, airplanes with main beams that have never been replaced since aircraft delivery might be considered Group 2 airplanes, if the original main beam is not an affected main beam as defined in paragraph (g) of this AD. However, if for example, an airplane with main beams that have never been replaced does not have maintenance records to conclusively confirm the part has never been repaired, as specified in paragraph (g)(1) of this AD, then it is a Group 1 airplane. We have not changed this AD in this regard.

Request To Change “Modify” to “Inspect and Disposition”

Delta asked that the proposed AD use the language “inspect and disposition” instead of “modify” to describe the action required by paragraph (j) of the proposed AD. Additionally, Delta asked that the proposed AD specify that replacement of a forward mount assembly containing an affected main beam with a forward mount assembly that contains an AD-compliant main beam is an acceptable means of compliance. Delta stated that paragraph (j) of the proposed AD uses the term “modify” to describe compliance with the requirements of the inspection and repair of the mounts. Delta added that, based on the instructions in the service information, the intent of the work instructions is to inspect affected main beams and disposition based on inspection findings; the dispositions range from scrapping the main beam to blending, based on measured snout diameter. Delta noted that the replacement of a forward mount assembly that contains an affected main beam with a forward mount assembly with an AD-compliant main beam meets the intent of the proposed AD to remove affected main beams from service.

We partially agree. We do not agree to replace “modify” with “inspect and disposition,” because corrective action cannot be defined by the term “disposition,” which is open to interpretation. Operators must follow the instructions in the Airbus service information referenced in paragraph (j) of this AD for the applicable method of compliance. However, we acknowledge that, while the Accomplishment Instructions of Airbus Service Bulletin A320-71-1066, dated December 1, 2016, specify to do a “Modification of the FWD Engine Mount Assembly on Engine 1 and Engine 2,” the Accomplishment Instructions of Airbus Service Bulletin A320-71-1065, Revision 01, dated July 28, 2017, specify to do inspections and applicable corrective actions. Therefore, we have changed paragraph (j) of this AD to replace “modify” with “modify, including doing all applicable inspections and corrective actions.”

Request To Include Goodrich Aerospace Service Bulletin for the Required Modification

Lufthansa requested that we include Goodrich Aerospace Service Bulletin RA32071-159 in paragraph (j) of the proposed AD to “make it more clear.”

We do not agree. The commenter provided no explanation of what is unclear in paragraph (j) or how adding the Goodrich Aerospace service bulletin will clarify the requirements of paragraph (j). Therefore, we have not changed this AD in this regard.

Requests To Provide Credit for Previous Actions Done Using Other Service Information

Delta and Lufthansa asked that the proposed AD include credit for doing previous actions by accomplishing Goodrich Aerospace Service Bulletin RA32071-159; Repair 10 of CMM 71-21-08, Revision 47 (and later); or Repair 21 of CMM 71-21-06, Revision 59 (and later). Delta stated that paragraph (l) of the proposed AD includes credit for previous actions only for compliance with Airbus Service Bulletin A320-71-1065, Revision 01, dated July 28, 2017. Delta asserted that the intent of the proposed AD is met by the accomplishment of Goodrich Aerospace Service Bulletin RA32071-159; Repair 10 of CMM 71-21-08, Revision 47 (and later); or Repair 21 of CMM 71-21-06, Revision 59 (and later); due to the correction of the inspection and repair requirements.

We do not agree with the commenter's request. Goodrich Aerospace Service Bulletin RA32071-159 is referenced in the airplane level Airbus service information as a secondary document; therefore, it is not an alternate for the instructions in the airplane level service information. All of the steps in paragraph 3.C. of Airbus Service Bulletin A320-71-1065, Revision 01, dated July 28, 2017, are required for compliance and must be done to comply with this AD. If not done before the effective date of this AD, paragraph (f) of this AD states that you must comply with the actions in the AD, “unless already done.”

Regarding future revisions of CMM repairs, we may not refer to any document that does not yet exist. To allow operators to use later revisions of a required document (issued after publication of the AD), either we must revise the AD to reference specific later revisions, or operators must request approval to use later revisions as an alternative method of compliance with the requirements of an AD under the provisions of the AMOC paragraph of the AD. However, as explained previously, the identified CMM repairs are not required for accomplishment of any action in this AD; therefore, no change to this AD is necessary in this regard.

Request To Change Parts Installation Prohibition

Delta asked that paragraph (m) of the proposed AD, “Parts Installation Prohibition,” be changed to permit the same allowance to install an affected main beam onto an aircraft equipped with an affected forward engine mount assembly within the compliance windows defined in paragraph (j) of the proposed AD. Delta stated that paragraph (m) of the proposed AD prohibits the installation of an affected main beam on any airplane after the effective date of the AD. Delta further points out that the parallel EASA AD 2017-0132R1, dated November 22, 2017, permits the installation of an affected main beam onto an aircraft equipped with an affected forward engine mount assembly within the compliance times defined in paragraph (j) of the proposed AD.

We agree with the commenter's request. After the NPRM was issued, EASA issued AD 2017-0132R1, dated November 22, 2017, which revised its parts installation requirement. We have revised paragraph (m) of this AD to match the EASA AD. In addition, we have revised this AD to refer to EASA AD 2017-0132R1, dated November 22, 2017.

Conclusion

We reviewed the relevant data, considered the comments received, and determined that air safety and the public interest require adopting this AD with the changes described previously, with minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

Airbus has issued Service Bulletin A320-71-1065, Revision 01, dated July 28, 2017. This service information describes procedures for modifying the main beam assembly of the forward engine mount. The modification includes, among other things, repair or replacement of the main beam assembly.

Airbus has also issued Service Bulletin A320-71-1066, dated December 1, 2016. This service information describes procedures for modifying the main beam assembly of the forward engine mount. The modification includes, among other things, rework of the main beam assembly.

This service information is reasonably available because the interested parties have access to it through their normal course of business or by the means identified in the ADDRESSES section.

Costs of Compliance

We estimate that this AD affects 500 airplanes of U.S. registry.

We estimate the following costs to comply with this AD:

Estimated Costs
Action | Labor cost | Parts cost | Cost per product | Cost on U.S. operators
Modification | Up to 76 work-hours × $85 per hour = $6,460 | $778 | Up to $7,238 | Up to $3,619,000.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866,

2. Is not a “significant rule” under the DOT Regulatory Policies and Procedures (44 FR 11034, February 26, 1979),

3. Will not affect intrastate aviation in Alaska, and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-12-02 Airbus: Amendment 39-19306; Docket No. FAA-2017-1020; Product Identifier 2017-NM-114-AD.

(a) Effective Date

This AD is effective July 13, 2018.

(b) Affected ADs

None.

(c) Applicability

This AD applies to all Airbus Model A318-111 and -112 airplanes; Model A319-111, -112, -113, -114, and -115 airplanes; Model A320-211, -212, -214, and -216 airplanes; and Model A321-111, -112, -211, -212, and -213 airplanes; certificated in any category.

(d) Subject

Air Transport Association (ATA) of America Code 71, Powerplant.

(e) Reason

This AD was prompted by a review of maintenance instructions for a blend repair of the diameter of the snout of the main beam assembly of the forward engine mount that would create an excessive gap between the bearing mono-ball and the snout. We are issuing this AD to prevent in-flight failure of a forward engine mount, and consequent detachment of an engine, which could result in reduced controllability of the airplane.

(f) Compliance

Comply with this AD within the compliance times specified, unless already done.

(g) Definition of Affected Parts

For the purposes of this AD: An “affected main beam” is any main beam assembly of the forward engine mount, part number (P/N) 642-2006-501 or P/N 642-2006-503, identified in paragraph (g)(1) or (g)(2) of this AD.

(1) Any part for which no maintenance records are available to confirm the part has never been repaired.

(2) Any part that was repaired as specified in Repair 10, of Goodrich Aerospace Component Maintenance Manual (CMM) 71-21-08, Revisions 1 through 46, except for parts identified in paragraphs (g)(2)(i), (g)(2)(ii), and (g)(2)(iii) of this AD.

(i) Any part on which a qualifying inspection identified in paragraph (h) of this AD has been done and there were no findings (the inspection was passed).

(ii) Any part on which a qualifying inspection identified in paragraph (h) of this AD has been done and that part has been repaired as specified in Goodrich Aerospace Service Bulletin RA32071-159.

(iii) Any part that has been repaired in accordance with other instructions approved by the Manager, International Section, Transport Standards Branch, FAA; or the European Aviation Safety Agency (EASA); or Airbus's EASA Design Organization Approval (DOA).

(h) Definition of Qualifying Inspection

For the purposes of this AD: “A qualifying inspection” is an inspection done as specified in Goodrich Aerospace Service Bulletin RA32071-159; or for CFM56-5B engines, an inspection done as specified in Repair 10 of Goodrich Aerospace CMM 71-21-08, Revision 47; or for CFM56-5A engines, an inspection done as specified in Repair 21 of Goodrich Aerospace CMM 71-21-06, Revision 59.

(i) Definition of Airplane Groups

For the purposes of this AD: “Group 1 airplanes” are airplanes on which an affected main beam has been installed as of the effective date of this AD. “Group 2 airplanes” are airplanes on which an affected main beam has not been installed as of the effective date of this AD; this includes airplanes with an original certificate of airworthiness or original export certificate of airworthiness that was issued after the effective date of this AD.

(j) Modification of Affected Main Beam Assemblies

For Group 1 airplanes as identified in paragraph (i) of this AD: At the earliest of the compliance times specified in paragraphs (j)(1), (j)(2), and (j)(3) of this AD, modify, including doing all applicable inspections and corrective actions, for each affected main beam identified in paragraph (g) of this AD, in accordance with the Accomplishment Instructions of Airbus Service Bulletin A320-71-1065, Revision 01, dated July 28, 2017; or Airbus Service Bulletin A320-71-1066, dated December 1, 2016; as applicable; except as required by paragraph (k) of this AD.

(1) Within 48 months after the effective date of this AD.

(2) Within 10,000 flight cycles after the effective date of this AD.

(3) Within 15,000 flight hours after the effective date of this AD.

(k) Exception to Service Information

Where Airbus Service Bulletin A320-71-1065, Revision 01, dated July 28, 2017, specifies to contact a manufacturer for appropriate action, and specifies that action as “RC” (Required for Compliance): Before further flight, accomplish corrective actions in accordance with the procedures specified in paragraph (n)(2) of this AD.

(l) Credit for Previous Actions

This paragraph provides credit for the actions required by paragraph (j) of this AD involving Airbus Service Bulletin A320-71-1065, Revision 01, dated July 28, 2017, if those actions were performed before the effective date of this AD using Airbus Service Bulletin A320-71-1065, dated December 1, 2016.

(m) Parts Installation Prohibition

Do not install on any airplane an affected main beam or a forward engine mount assembly equipped with an affected main beam, as specified in paragraph (m)(1) or (m)(2) of this AD, as applicable.

(1) For Group 1 airplanes: After modification of the airplane as required by paragraph (j) of this AD.

(2) For Group 2 airplanes: As of the effective date of this AD.

(n) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the manager of the International Section, send it to the attention of the person identified in paragraph (o)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or EASA; or Airbus's EASA DOA. If approved by the DOA, the approval must include the DOA-authorized signature.

(3) Required for Compliance (RC): Except as required by paragraph (k) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(o) Related Information

(1) Refer to Mandatory Continuing Airworthiness Information (MCAI) EASA AD 2017-0132R1, dated November 22, 2017, for related information. This MCAI may be found in the AD docket on the internet at http://www.regulations.gov by searching for and locating Docket No. FAA-2017-1020.

(2) For more information about this AD, contact Sanjay Ralhan, Aerospace Engineer, International Section, Transport Standards Branch, FAA, 2200 South 216th St., Des Moines, WA 98198-6547; telephone 425-227-1405; fax 425-227-1149.

(3) Airbus service information identified in this AD that is not incorporated by reference is available at the addresses specified in paragraphs (p)(4) and (p)(5) of this AD.

(4) Goodrich service information identified in this AD that is not incorporated by reference is available at Goodrich Corporation, Aerostructures, 850 Lagoon Drive, Chula Vista, CA 91910-2098; phone: 619-691-2719; email: jan.lewis@goodrich.com; internet: http://www.goodrich.com/TechPubs.

(p) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-71-1065, Revision 01, dated July 28, 2017.

(ii) Airbus Service Bulletin A320-71-1066, dated December 1, 2016.

(3) For Airbus service information identified in this AD, contact Airbus, Airworthiness Office-EIAS, 1 Rond Point Maurice Bellonte, 31707 Blagnac Cedex, France; telephone: +33 5 61 93 36 96; fax: +33 5 61 93 44 51; email: account.airworth-eas@airbus.com; internet: http://www.airbus.com.

(4) For Goodrich service information identified in this final rule, contact Goodrich Corporation, Aerostructures, 850 Lagoon Drive, Chula Vista, CA 91910-2098; phone: 619-691-2719; email: jan.lewis@goodrich.com; internet: http://www.goodrich.com/TechPubs.

(5) You may view this service information at the FAA, Transport Standards Branch, 2200 South 216th St., Des Moines, WA. For information on the availability of this material at the FAA, call 206-231-3195.

(6) You may view this service information that is incorporated by reference at the National Archives and Records Administration (NARA). For information on the availability of this material at NARA, call 202-741-6030, or go to: http://www.archives.gov/federal-register/cfr/ibr-locations.html.

Issued in Des Moines, Washington, on May 29, 2018.
Jeffrey E. Duven,
Director, System Oversight Division, Aircraft Certification Service.

[FR Doc. 2018-12268 Filed 6-7-18; 8:45 am]

BILLING CODE 4910-13-P